DEPARTMENT OF LABOR

Employment and Training Administration

[TA-W-63,713]

Canterbury Printing Company of Rome Incorporated, Rome, NY; Notice of Affirmative Determination Regarding Application for Reconsideration

On September 11, 2008, the Department of Labor (Department) received a request for administrative reconsideration of the Department's Notice of negative determination regarding workers' eligibility to apply for Trade Adjustment Assistance (TAA) and Alternative Trade Adjustment Assistance (ATAA) applicable to workers and former workers of the subject firm. The negative determination was issued on July 28, 2008. The Department's Notice of determination was published in the Federal Register on August 12, 2008 (73 FR 46924). Workers produce printed materials including postcards, calendars, and journals.

The negative determination was based on the Department's findings that the subject firm did not import printed materials or shift production of those articles to a foreign country during the relevant period. The Department's survey of the subject firm's major declining customer revealed no increased imports of postcards, calendars and journals during the relevant period.

In the request for reconsideration, the Graphic Communications Conference of the International Brotherhood of Teamsters Union, Local 503-M (Union) stated that the “import of foreign printed products put a severe economic strain on Canterbury Press, which forced the company to close.”

The Department has carefully reviewed the Union's request for reconsideration and has determined that the Department will conduct further investigation.

Conclusion

After careful review of the application, I conclude that the claim is of sufficient weight to justify reconsideration of the U.S. Department of Labor's prior decision. The application is, therefore, granted.

Signed at Washington, DC, this 17th day of September 2008.
Elliott S. Kushner,
Certifying Officer, Division of Trade Adjustment Assistance.

[FR Doc. E8-22403 Filed 9-23-08; 8:45 am]

BILLING CODE 4510-FN-P